DEPARTMENT OF HEALTH AND HUMAN SERVICES

Centers for Disease Control and Prevention

Disease, Disability, and Injury Prevention and Control Special Emphasis Panel (SEP): Initial Review; Cancelation

This is to announce the cancelation of a meeting, Operations Research (Implementation Science) for Strengthening Global Health Protection, Funding Opportunity Announcement (FOA) GH16-007, initial review.

SUMMARY: This meeting was announced in the Federal Register on July 14, 2016, 81 FR 45506. This meeting is canceled in its entirety.

FOR FURTHER INFORMATION CONTACT: Hylan Shoob, Ph.D., Scientific Review Officer, CDC, 1600 Clifton Road NE., Mailstop D-69, Atlanta, Georgia 30333, Telephone: (404) 639-4796, HShoob@cdc.gov.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2016-17827 Filed 7-27-16; 8:45 am]

BILLING CODE 4163-18-P